COURT SERVICES AND OFFENDER SUPERVISION AGENCY FOR THE DISTRICT OF COLUMBIA

SES Performance Review Board

AGENCY: Court Services and Offender Supervision Agency for the District of Columbia.

ACTION: Notice.

SUMMARY: Notice is hereby given of the appointment of new members to the Court Services and Offender Supervision Agency (CSOSA) and the Pretrial Services Agency for the District of Columbia (PSA), Senior Executive Service Performance Review Board. PSA is an independent agency within CSOSA. The Performance Review Board assures consistency, stability, and objectivity in the appraisal process.

DATES: Effective: January 2, 2017

FOR FURTHER INFORMATION CONTACT: William Layne, Assistant Director Human Capital Planning and Executive Resources, Court Services and Offender Supervision Agency, 800 North Capitol Street NW., Suite 700, Washington, DC 20005, (202) 220-5637.

SUPPLEMENTARY INFORMATION: Section 4314(c)(1) through (5) of Title 5 of the United States Code, requires each agency to establish, in accordance with regulations prescribed by the Office of Personnel Management, one or more SES performance review boards. Section 4314(c)(4) of Title 5 requires that notice of appointment of board members be published in the Federal Register. The Performance Review Board is responsible for making recommendations to the appointing and awarding authority on the performance appraisal ratings and performance awards for the Senior Executive Service employees. Members of the board will serve a 12-month term that shall begin on January 2, 2017. The following executives have been designated as members of the Performance Review Board for CSOSA and PSA:

James Berry, Deputy Director for CSOSA

Leslie Cooper, Deputy Director for PSA

Catherine Terry-Crusor, Associate Director for the Office of Operations for PSA

Mindy Ginsburg, Deputy Managing Director for the Federal Communications Commission

Paul Girardo, Associate Director for the Office of Financial Management for CSOSA

Cedric Hendricks, Associate Director of Office of Legislative, Intergovernmental and Public Affairs for CSOSA

David Huffer, Associate Director for the Office of Research and Evaluation for CSOSA, Reginald James, Associate Director for Management and Administration for CSOSA

Clifford Keenan, Director for PSA

William Kirkendale, Chief Information Officer for CSOSA

Linda Mays, Associate Director of the Office of Human Resources for CSOSA

Keith Nakasone, Senior Procurement Executive for the Federal Communications Commission

Jasper Ormond, Associate Director for the Community Justice Programs for CSOSA

Lisa Rawlings, Chief of Staff for CSOSA

Barry Socks, Chief Operating Officer for the National Capital Planning Commission

Sheila Stokes, General Counsel for CSOSA and PSA

Sheila Wright, Chief Learning Officer, U.S. Department of Housing and Urban Development

Authority: Section 4314(c)(1) through (5) of Title 5, United States Code.

Dated: December 21, 2016.
Diane Bradley,
Federal Register Liaison.

[FR Doc. 2016-31376 Filed 12-27-16; 8:45 am]

BILLING CODE 3129-04-P